FEDERAL RESERVE SYSTEM

Formations of, Acquisitions by, and Mergers of Bank Holding Companies; Correction

This notice corrects a notice (FR Doc. 11-33698) published on page 285 of the issue for Wednesday, January 4, 2012.

Under the Federal Reserve Bank of Richmond heading, the entry for First Financial Holdings, Inc., Charleston, South Carolina, is revised to read as follows:

A. Federal Reserve Bank of Richmond (Adam M. Drimer, Assistant Vice President) 701 East Byrd Street, Richmond, Virginia 23261-4528:

1. First Financial Holdings, Inc., Charleston, South Carolina; to become a bank holding company upon the conversion of First Federal Savings and Loan Association, Charleston, South Carolina, to a state chartered commercial bank.

In connection with this application, Applicant also has applied to acquire First Southeast 401(k) Fiduciaries, Inc., and First Southeast Investor Services, Inc., both in Charleston, South Carolina, and thereby engage in financial and investment advisory activities and agency transactional services for customer investments, pursuant to sections 225.28(b)(6) and(b)(7) of Regulation Y.

Comments on this application must be received by January 27, 2012.

Board of Governors of the Federal Reserve System, January 9, 2012.
Robert deV. Frierson,
Deputy Secretary of the Board.

[FR Doc. 2012-498 Filed 1-12-12; 8:45 am]

BILLING CODE 6210-01-P